DEPARTMENT OF THE TREASURY

Alcohol and Tobacco Tax and Trade Bureau

Proposed Information Collections; Comment Request

AGENCY: Alcohol and Tobacco Tax and Trade Bureau (TTB), Treasury.

ACTION: Notice and request for comments.

SUMMARY: As part of our continuing effort to reduce paperwork and respondent burden, and as required by the Paperwork Reduction Act of 1995, we invite comments on the proposed or continuing information collections listed below in this notice.

DATES: We must receive your written comments on or before August 7, 2006.

ADDRESSES: You may send comments to Mary A. Wood, Alcohol and Tobacco Tax and Trade Bureau, at any of these addresses:

• P.O. Box 14412, Washington, DC 20044-4412;

• 202-927-8525 (facsimile); or

• formcomments@ttb.gov (e-mail).

Please send separate comments for each specific information collection listed below. You must reference the information collection's title, form number, and OMB number (if any) in your comment. If you submit your comment via facsimile, send no more than five 8.5 x 11 inch pages in order to ensure electronic access to our equipment.

FOR FURTHER INFORMATION CONTACT: To obtain additional information, copies of the information collection and its instructions, or copies of any comments received, contact Mary A. Wood, Alcohol and Tobacco Tax and Trade Bureau, P.O. Box 14412, Washington, DC 20044-4412; or telephone 202-927-8210.

SUPPLEMENTARY INFORMATION:

Request for Comments

The Department of the Treasury and its Alcohol and Tobacco Tax and Trade Bureau, as part of their continuing effort to reduce paperwork and respondent burden, invite the general public and other Federal agencies to comment on the proposed and continuing information collections listed below in this notice, as required by the Paperwork Reduction Act of 1995 (44 U.S.C. 3501 et seq.).

Comments submitted in response to this notice will be included or summarized in our request for Office of Management and Budget (OMB) approval of the relevant information collection. All comments are part of the public record and subject to disclosure. Please do not include any confidential or inappropriate material in your comments.

We invite comments on: (a) Whether this information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

Information Collections Open for Comment

Currently, we are seeking comments on the following information collections:

Title: Drawback on Wines Exported.

OMB Number: 1513-0016.

TTB Form Number: 5120.24.

Abstract: When proprietors export wines that have been produced, packaged, manufactured, or bottled in the U.S., they file a claim for drawback of the taxes that have already been paid or determined on the wine. This form notifies TTB that the wine was in fact been exported and helps to protect the revenue and prevent fraudulent claims.

Current Actions: There are minor corrections to this information collection, and it is being submitted for reinstatement purposes. We are correcting such things as changing ATF to TTB, correcting titles for Customs, and correcting typos.

Type of Review: Reinstatement, with change, of a previously approved collection for which approval has expired.

Affected Public: Individuals or households, Business and other for-profit.

Estimated Number of Respondents: 21.

Estimated Total Annual Burden Hours: 94.

Title: Application, Permit and Report—Wine and Beer (Puerto Rico) and Application, Permit and Report—Distilled Spirits (Puerto Rico).

OMB Number: Requesting new numbers (formerly 1512-0149 and 1512-0210, respectively).

TTB Form Number: 5100.21 and 5110.51, respectively.

Abstract: TTB Form 5100.21 (Application, Permit and Report—Wine and Beer) is a permit to compute the tax on and to withdraw shipments of wine or beer from Puerto Rico to the United States, as substantively required by 27 CFR 26.93. TTB Form 5110.51 (Application, Permit and Report—Distilled Spirits) is a permit to compute the tax on and to withdraw shipments of distilled spirits products from Puerto Rico to the United States, as substantively required by 27 CFR 26.78.

Current Actions: There are minor corrections to these information collections, and we are submitting the collections for reinstatement purposes. We are correcting such things as changing ATF to TTB, correcting typos, and updating references to old form numbers.

Type of Review: Reinstatement, with change, of a previously approved collection for which approval has expired.

Affected Public: Business and other for-profit.

Estimated Number of Respondents: 30.

Estimated Total Annual Burden Hours: 42.

Dated: June 2, 2006.
Francis W. Foote,
Director, Regulations and Rulings Division.

[FR Doc. E6-8855 Filed 6-7-06; 8:45 am]

BILLING CODE 4810-31-P